DEPARTMENT OF LABOR

Employment and Training Administration

[TA-W-37,239 and NAFTA-3642]

DeZurik Corporation, McMinnville, TN; Notice of Negative Determination Regarding Application for Reconsideration

By application dated April 15, 2000, the International Association of Machinists (IAM), Local 1941, requested administrative reconsideration of the Department's negative determination regarding worker eligibility to apply for Trade Adjustment Assistance (TAA) and North American Free Trade Agreement-Transitional Adjustment Assistance (NAFTA-TAA). The denial notices applicable to workers of the subject firm were signed on March 30, 2000 and published in the Federal Register on April 21, 2000, TA-W-37,239 (65 FR 21437) and NAFTA-3642 (65 FR 21439).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

Workers producing industrial valves at DeZurik Corporation, McMinnville, Tennessee, were denied eligibility to apply for TAA based on the finding that the contributed importantly criterion of section 222 of the Trade Act of 1974, as amended, was not met. Layoffs at the subject firm plant were attributable to the transfer of production to another domestic facility. The subject firm did not import articles like or directly competitive with those produced at the McMinnville plant. Customer imports of industrial valves were minor and accompanied by increased domestic purchases during the time period relevant to the investigation.

The NAFTA-TAA petition for the same worker group was denied based on the Department's finding that criteria (3) and (4) of the worker group eligibility requirements contained in paragraph (a)(1) of section 250 of the Trade Act of 1974, as amended, were not met. There were no company imports from Mexico or Canada of articles like or directly competitive with those produced at the workers' firm. Customer imports of industrial valves from Mexico or Canada did not contribute importantly to worker separations at the workers' firm. There was no shift in production of industrial valves from the McMinnville plant to Mexico or Canada. Layoffs at the subject firm were attributable to a shift in production to another domestic facility.

The IAM provided documentation on company imports of cylinders, knife gate valve bodies ready for assembly, and multiple parts, that were formerly produced by workers at the subject firm. Additionally, the IAM provided a listing of machines that will be sent to the company's plant in Canada.

For both the TAA and NAFTA-TAA petition investigations, the Department is required to determine import impact of the articles produced at the workers' firm. In this case, during the time period relevant to the investigation, the primary output at the plant was industrial valves. Although the company acknowledges imports of cylinders and other components, those articles cannot be considered like or directly competitive with the finished product, industrial valves. Machinery sent to Canada is not a basis for worker group certification. A small percentage of production at the McMinnville plant will be shifted to Canada but that has not as yet occurred.

Conclusion

After review of the application and investigative findings, I conclude that there has been no error or misinterpretation of the law or of the facts which would justify reconsideration of the Department of Labor's prior decision. Accordingly, the application is denied.

Signed at Washington, DC this 5th day of June, 2000.
Grant D. Beale,
Program Manager, Division of Trade Adjustment Assistance.

[FR Doc. 00-15143 Filed 6-14-00; 8:45 am]

BILLING CODE 4510-30-M